DEPARTMENT OF EDUCATION

Notice of Submission for OMB Review

AGENCY: Department of Education.

ACTION: Comment Request.

SUMMARY: The Director, Information Collection Clearance Division, Regulatory Information Management Services, Office of Management invites comments on the submission for OMB review as required by the Paperwork Reduction Act of 1995 (Pub. L. 104-13).

DATES: Interested persons are invited to submit comments on or before April 7, 2011.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov. Please note that written comments received in response to this notice will be considered public records.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: March 2, 2011.
Darrin A. King,
Director, Information Collection Clearance Division, Regulatory Information Management Services, Office of Management.

Institute of Education Sciences

Type of Review: Revision.

Title of Collection: Program for the International Assessment of Adult Competencies (PIAAC) 2011-2012 Main Study Data Collection.

OMB Control Number: 1850-0870.

Agency Form Number(s): N/A.

Frequency of Responses: Annually.

Affected Public: Individuals or households.

Total Estimated Number of Annual Responses: 17,277.

Total Estimated Annual Burden Hours: 5,263.

Abstract: The National Center for Education Statistics seeks Office of Management and Budget approval to survey adults (16-65 years old) for the 2011/12 administration of the Program for the International Assessment of Adult Competencies (PIAAC) main data collection. PIAAC is coordinated by the Organization for Economic Cooperation and Development (http://www.oecd.org/) and sponsored by the U.S. Departments of Education and Labor in the United States. PIAAC is the Organization for Economic Cooperation and Development's (OECD's) new international household study of adults' literacy, numeracy, and problem-solving in technology-rich environments. It will also survey respondents about their education and employment experience and about the skills they use at work. PIAAC builds on previous international literacy assessments: the 2002 Adult Literacy and Lifeskills Survey and the 1994-98 International Adult Literacy Survey. PIAAC is expected to be on a 10-year cycle. In 2011, 26 countries, including 23 OECD-member countries, plan to participate. The U.S. PIAAC main study will occur between September 2011 and March 2012.

Copies of the information collection submission for OMB review may be accessed from the RegInfo.gov Web site at http://www.reginfo.gov/public/do/PRAMain or from the Department's Web site at http://edicsweb.ed.gov, by selecting the “Browse Pending Collections” link and by clicking on link number 4531. When you access the information collection, click on “Download Attachments”to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2011-5215 Filed 3-7-11; 8:45 am]

BILLING CODE 4000-01-P